DEPARTMENT OF DEFENSE

Department of the Air Force

[Docket ID: USAF-2024-HQ-0012]

Submission for OMB Review; Comment Request

AGENCY: Department of the Air Force, Department of Defense (DoD).

ACTION: 30-Day information collection notice.

SUMMARY: The DoD has submitted to the Office of Management and Budget (OMB) for clearance the following proposal for collection of information under the provisions of the Paperwork Reduction Act.

DATES: Consideration will be given to all comments received by June 27, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Isolated Personnel Report and Personnel Recovery Mission Software Web Application; DD Form 1833; OMB Control Number 0701-0166.

Type of Request: Revision.

Number of Respondents: 2,892.

Responses per Respondent: 1.

Annual Responses: 2,892.

Average Burden per Response: 15 minutes.

Annual Burden Hours: 723.

Needs and Uses: Information collected using the DD Form 1833 is necessary to positively identify, authenticate, support and recover isolated or missing DoD persons of interest. The Isolated Personnel Report (ISOPREP) collects controlled unclassified information in the form of full name and associates the name with sensitive personal identifiable information including date of birth, Social Security number, DoD Identification number, pictures and fingerprints. The ISOPREP also collects confidential information in the form of personal authentication statements and codes known only to the individual who completes the ISOPREP. All personnel completing an initial ISOPREP are required to utilize the Personnel Recovery Mission Software (PRMS) web application. In rare instances where personnel do not have access to PRMS, a hardcopy DD Form 1833 can be completed. In the interest of protecting the force and returning personnel who support the DoD to their units, families and country, the information collected for the ISOPREP is a force requirement for DoD military and civilians serving overseas, as well as DoD Contractors authorized to accompany the force and Coalition military members supporting DoD operations within specified foreign countries.

Affected Public: Individuals or households.

Frequency: On occasion.

Respondent's Obligation: Voluntary.

DoD Clearance Officer: Mr. Reginald Lucas.

Dated: May 21, 2025.
Aaron T. Siegel,
Alternate OSD Federal Register Liaison Officer, Department of Defense.

[FR Doc. 2025-09512 Filed 5-27-25; 8:45 am]

BILLING CODE 6001-FR-P